DEPARTMENT OF TRANSPORTATION

Surface Transportation Board

[STB Finance Docket No. 34772]

R.J. Corman Railroad Company/Tennessee Terminal, LLC—Lease and Operation Exemption—BNSF Railway Company

R.J. Corman Railroad Company/Tennessee Terminal, LLC (RJCK), a noncarrier, has filed a verified notice of exemption under 49 CFR 1150.31 to lease, from BNSF Railway Company (BNSF), and operate approximately 46.7 miles of rail line known as the Tennessee-Mississippi Terminal Tracks as follows: (1) Tracks referred to as the Olive Branch Metro Industrial Park tracks all in DeSoto County, MS; (2) tracks referred to as the Airport Industrial Park tracks, located in Shelby County, TN; and (3) tracks referred to as the Tennessee Yard tracks, all in Shelby County, TN: (a) Track No. 0323 from a point west of track No. 0324 to the point it connects with track No. 2058 on the west end of the yard; ¹ (b) track Nos. 2062, 2063, 2064, 2065, 0311 and 0312; (c) track No. 1400, the Solae Lead, and all connected BNSF owned industrial tracks north of the yard; (d) track No. 1300, the Perkins Lead, and all connected BNSF owned industrial tracks north of the yard; (e) track Nos. 1365, 1370, 1372 and 1375, the Coors Leads; (f) track Nos. 1318 and 1356, Transload of Tennessee lead track; (g) track No. 1500 from a point east of the Shelby overpass and all Hickory Hill Industrial Park leads owned by BNSF; and (h) track Nos. 0892, 1202, 1204, 1207 and all connected BNSF owned industrial tracks north of main track No. 2. In addition, BNSF is granting incidental trackage rights at its Tennessee Yard to RJCK for the purpose of moving RJCK's trains and equipment on BNSF's tracks as follows: (a) Track No. 0323 from a point west of track No. 0324 to the point it connects with track No. 1500 on the east end of the yard; (b) track No. 1500 from a point east of the Shelby overpass to the point it connects with track No. 0323; (c) track No. 0323 from the point it connects with track No. 2058 to the point track No. 0323 connects with track No. 1008; and (d) track No. 1008 (former Main 2) from the point it connects with track No. 0323 to milepost 493.0.

¹ BNSF is reserving the right to use this track for the sole purpose of moving its trains and equipment.

This transaction is related to STB Finance Docket No. 34775, Richard J. Corman and R.J. Corman Railroad Group, LLC—Continuance in Control Exemption—R.J. Corman Railroad Company/Tennessee Terminal, LLC, wherein Richard J. Corman and R.J. Corman Railroad Group, LLC, have concurrently filed a verified notice of exemption to continue in control of RJCK, upon its becoming a Class III rail carrier.

RJCK certifies that its projected annual revenues as a result of this transaction will not result in the creation of a Class II or Class I rail carrier, and further certifies that its projected annual revenues will not exceed $5 million. The transaction was scheduled to be consummated on January 15, 2006.

If the notice contains false or misleading information, the exemption is void ab initio. Petitions to revoke the exemption under 49 U.S.C. 10502(d) may be filed at any time. The filing of a petition to revoke will not automatically stay the transaction.

An original and 10 copies of all pleadings, referring to STB Finance Docket No. 34772, must be filed with the Surface Transportation Board, 1925 K Street, NW., Washington, DC 20423-0001. In addition, one copy of each pleading must be served on Ronald A. Lane, Fletcher & Sippel LLC, 29 North Wacker Drive, Suite 920, Chicago, IL 60606-2832.

Board decisions and notices are available on our Web site at http://www.stb.dot.gov.

Decided: January 30, 2006.
By the Board, David M. Konschnik, Director, Office of Proceedings.
Vernon A. Williams,
Secretary.

[FR Doc. E6-1488 Filed 2-2-06; 8:45 am]

BILLING CODE 4915-01-P